DEPARTMENT OF TRANSPORTATION

National Highway Traffic Safety Administration

Reports, Forms, and Recordkeeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on July 11, 2005 (70 FR 39851-39852).

DATES: Comments must be submitted on or before April 3, 2006.

ADDRESSES: Send comments, within 30 days, to the Office of Information and Regulatory Affairs, Office of Management and Budget, 725 17th Street, NW., Washington, DC 20503, Attention: NHTSA Desk Officer.

FOR FURTHER INFORMATION CONTACT: Alan Block at the National Highway Traffic Safety Administration, Office of Research and Technology (NTI-131), 202-366-6401, 400 Seventh Street, SW., Room 5119, Washington, DC 20590.

SUPPLEMENTARY INFORMATION:

National Highway Traffic Safety Administration

Title: 2006 Motor Vehicle Occupant Safety Survey.

OMB Number: 2121-New.

Type of Request: New information collection request.

Abstract: The Motor Vehicle Occupant Safety Survey (MVOSS) is conducted on a periodic basis for the National Highway Traffic Safety Administration to obtain a status report on attitudes, knowledge, and behavior related to motor vehicle occupant protection. It is a national telephone survey composed of two questionnaires, each administered to a randomly selected sample of approximately 6,000 persons age 16 and older. One questionnaire focuses on seat belt issues while the other focuses on child restraint use. Additional topics addressed by the survey include air bags, emergency medical services, wireless phone use in motor vehicles, and crash injury experience. The proposed survey is the sixth in the MVOSS series. The 2006 MVOSS will collect data on topics included in the preceding surveys in order to monitor change over time in the use of occupant protection devices and in attitudes and knowledge related to motor vehicle occupant safety. The survey will also include new questions that address emergent issues in occupant protection.

Affected Public: Randomly selected members of the general public aged sixteen and older in telephone households.

Estimated Total Annual Burden: 4,016 hours (9 cognitive interviews averaging 40 minutes each, 30 pre-test interviews averaging 20 minutes each, and 12,000 final interviews averaging 20 minutes each).

Coments are invited on: Whether the proposed collection of information is necessary for the performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Authority: 44 U.S.C. 3506(c)(2)(A).

Marilena Amoni,
Associate Administrator, Program Development and Delivery.

[FR Doc. 06-1986 Filed 3-2-06; 8:45 am]

BILLING CODE 4910-59-M